DEPARTMENT OF THE INTERIOR

Bureau of Land Management

[CA-930-5410-EQ-B139; CACA 42646]

Conveyance of Mineral Interests in California

AGENCY: Bureau of Land Management, Interior.

ACTION: Correction.

SUMMARY: In Federal Register notice document 01-7309 beginning on page 16487 in the issue of Monday, March 26, 2001, make the following correction:

On page 16487 in the second column the legal description reads, “sec. 6, NW¼ NE¼”. This should read, “sec. 6, SE¼NW¼, SW¼NE¼”.

Dated: March 28, 2001.
Tom Gey,
Acting Chief, Branch of Lands.

[FR Doc. 01-8406 Filed 4-4-01; 8:45 am]

BILLING CODE 4310-40-P